DEPARTMENT OF ENERGY

Federal Energy Regulatory Commission

Combined Notice of Filings #1

Take notice that the Commission received the following electric rate filings:

Docket Numbers: ER15-13-007.

Applicants: Transource Wisconsin, LLC.

Description: Compliance filing: Transource Wisconsin Protocols Compliance Filing to be effective 12/1/2014.

Filed Date: 11/30/16.

Accession Number: 20161130-5169

Comments Due: 5 p.m. ET 12/21/16.

Docket Numbers: ER17-427-000.

Applicants: Southwest Power Pool, Inc.

Description: § 205(d) Rate Filing: 1266R4 Kansas Municipal Energy Agency NITSA and NOA to be effective 2/1/2017.

Filed Date: 11/30/16.

Accession Number: 20161130-5156.

Comments Due: 5 p.m. ET 12/21/16.

Docket Numbers: ER17-428-000.

Applicants: Southwest Power Pool, Inc.

Description: § 205(d) Rate Filing: Missouri River Energy Services Member Formula Rate (Vermillion) to be effective 2/1/2017.

Filed Date: 11/30/16.

Accession Number: 20161130-5178.

Comments Due: 5 p.m. ET 12/21/16.

Docket Numbers: ER17-429-000.

Applicants: Southern California Edison Company.

Description: § 205(d) Rate Filing: Fourth Amendment of SGIA for Western Antelope Dry Ranch Project to be effective 12/1/2016.

Filed Date: 11/30/16.

Accession Number: 20161130-5195.

Comments Due: 5 p.m. ET 12/21/16.

Docket Numbers: ER17-430-000.

Applicants: PJM Interconnection, L.L.C.

Description: Tariff Cancellation: Notice of Cancellations for Service Agreements for Deactivated Units to be effective 9/1/2013.

Filed Date: 11/30/16.

Accession Number: 20161130-5196.

Comments Due: 5 p.m. ET 12/21/16.

Docket Numbers: ER17-431-000.

Applicants: Pacific Gas and Electric Company.

Description: § 205(d) Rate Filing: November 2016 Western Interconnection Agreement Biannual Filing to be effective 2/1/2017.

Filed Date: 11/30/16.

Accession Number: 20161130-5204.

Comments Due: 5 p.m. ET 12/21/16.

Docket Numbers: ER17-432-000.

Applicants: Pacific Gas and Electric Company.

Description: § 205(d) Rate Filing: November 2016 Western WDT Service Agreement Biannual Filing to be effective 2/1/2017.

Filed Date: 11/30/16.

Accession Number: 20161130-5207.

Comments Due: 5 p.m. ET 12/21/16.

Docket Numbers: ER17-433-000.

Applicants: Eagle Point Power Generation LLC.

Description: Compliance filing: Revised MBR Tariff to be effective 1/30/2017.

Filed Date: 11/30/16.

Accession Number: 20161130-5275.

Comments Due: 5 p.m. ET 12/21/16.

Docket Numbers: ER17-434-000.

Applicants: Alcoa Power Generating Inc.

Description: § 205(d) Rate Filing: Transmission Svc Agmt for Native Load Customer—APGI (Long Sault) & Alcoa to be effective 11/1/2016.

Filed Date: 11/30/16.

Accession Number: 20161130-5284.

Comments Due: 5 p.m. ET 12/21/16.

Docket Numbers: ER17-435-000.

Applicants: Alcoa Power Generating Inc.

Description: § 205(d) Rate Filing: Transmission Svc Agmt for Native Load Customer—APGI (Tapoco) & Arconic to be effective 11/1/2016.

Filed Date: 11/30/16.

Accession Number: 20161130-5285.

Comments Due: 5 p.m. ET 12/21/16.

Docket Numbers: ER17-436-000.

Applicants: Marcus Hook Energy, L.P.

Description: § 205(d) Rate Filing: Notice of Succession to be effective 11/21/2016.

Filed Date: 11/30/16.

Accession Number: 20161130-5307.

Comments Due: 5 p.m. ET 12/21/16.

Docket Numbers: ER17-437-000.

Applicants: Marcus Hook 50, L.P.

Description: § 205(d) Rate Filing: Notice of Succession to be effective 11/21/2016.

Filed Date: 11/30/16.

Accession Number: 20161130-5308.

Comments Due: 5 p.m. ET 12/21/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 30, 2016.
Nathaniel J. Davis, Sr.,
Deputy Secretary.

[FR Doc. 2016-29415 Filed 12-7-16; 8:45 am]

BILLING CODE 6717-01-P